DEPARTMENT OF ENERGY

Federal Energy Regulatory Commission

[Docket No. EF04-4081-000, et al.]

Southwestern Power Administration, et al.; Electric Rate and Corporate Filings

October 20, 2003.

The following filings have been made with the Commission. The filings are listed in ascending order within each docket classification.

1. Southwestern Power Administration

[Docket No. EF04-4081-000]

Take notice that on October 15, 2003, the Deputy Secretary, U.S. Department of Energy, submitted to the Federal Energy Regulatory Commission (FERC) for confirmation and approval on a final basis, pursuant to the authority vested in the FERC by Department of Energy Delegation Order No. 00-037.00, effective December 6, 2001, an annual power rate of $452,952 for the sale of power and energy by the Southwestern Power Administration (Southwestern) from the Robert Douglas Willis Hydropower Project (Robert D. Willis) to Sam Rayburn Municipal Power Agency (SRMPA). The rate was confirmed and approved on an interim basis by the Deputy Secretary in Rate Order No. SWPA-50 for the period November 1, 2003, through September 30, 2007, and has been submitted to FERC for confirmation and approval on a final basis for the same period. The annual rate of $452,952 is based on the 2003 Revised Power Repayment Study for Robert D. Willis and represents an annual increase in revenue of $99,252 or 28.1 percent to satisfy repayment criteria.

The Deputy Secretary states that this rate supersedes the annual power rate of $353,700, which FERC approved on a final basis October 22, 2001, under Docket No. EF01-4081-000 for the period October 1, 2001, through September 30, 2005.

Comment Date: November 5, 2003.

2. Brazos Wind, LP

[Docket No. EG04-4-000]

Take notice that on October 15, 2003, Brazos Wind, LP filed with the Commission an application for determination of exempt wholesale generator status pursuant to Section 32(a)(1) of the Public Utility Holding Company Act of 1935. Brazos Wind, LP states that it is a limited partnership organized under the laws of the State of Texas that is engaged directly and exclusively in developing, owning, and operating a 160 MW wind-powered electric generating facility, which will be an eligible facility.

Comment Date: November 10, 2003.

3. Midwest Independent Transmission System Operator, Inc., et al.; Ameren Services Company, et al.; American Electric Power Service Corporation, Commonwealth Edison Company and Commonwealth Edison Company of Indiana, Inc., and Dayton Power and Light Company, Complainants v. Midwest Independent Transmission System Operator, Inc. Respondent; American Electric Power Service Corporation, Commonwealth Edison Company and Commonwealth Edison Company of Indiana, Inc., and Dayton Power and Light Company, Complainants v. PJM Interconnection, L.L.C., Respondent; American Electric Power Service Corporation, Commonwealth Edison Company and Commonwealth Edison Company of Indiana, Inc., and Dayton Power and Light Company, Complainants v. Ameren Services Company, Respondent; American Electric Power Service Corporation, Commonwealth Edison Company and Commonwealth Edison Company of Indiana, Inc., and Dayton Power and Light Company, Complainants, v. Illinois Power Company, Respondent; American Electric Power Service Corporation, and Commonwealth Edison Company and Commonwealth Edison Company of Indiana, Inc., Complainants, v. Dayton Power and Light Company, Respondent; American Electric Power Service Corporation, and Dayton Power and Light Company, Complainants v. Commonwealth Edison Company and Commonwealth Edison Company of Indiana, Inc., Respondent; Commonwealth Edison Company and Commonwealth Edison Company of Indiana, Inc, and Dayton Power and Light Company, Complainants v. American Electric Power Service Corporation, Respondent

[Docket Nos. EL02-111-007, EL03-212-002, EL04-4-000, EL04-5-000, EL04-6-000, EL04-7-000, EL04-8-000, EL04-9-000, EL04-10-000]

Take notice that on October 14, 2003, American Electric Power Service Corporation (AEP), Commonwealth Edison Company (ComEd) and Dayton Power and Light Company (collectively, Companies) submitted a regional Seams Elimination Cost Assignment (SECA) proposal for the MISO-PJM footprint (as that term is used in the Commission's Order in Midwest Independent Transmission System Operator, Inc., et al., 104 FERC ¶ 61,105(2003)), under the set of circumstances specified in the filing. The regional SECA proposal would require all transmission providers in the MISO-PJM footprint to revise their tariffs to implement load-based SECA charges. The SECA proposal is presented for review in Docket Nos. EL02-111-000 and EL03-212-000.

Alternatively, if the Commission denies the request to accept the Companies' regional SECA rate solution for filing and review in these proceedings, each of the Companies has submitted complaints under Section 206 of the Federal Power Act (FPA) against transmission providers in the proposed MISO-PJM footprint to implement the SECA proposal, under the set of circumstances specified in the filing.

AEP states of this filing were served on the parties in Docket Nos. EL02-111-000 and EL03-212-000, and on each respondent in the Companies' complaints.

Comment Date: December 15, 2003.

4. Bangor Hydro-Electric Company

[Docket No. ER00-980-008]

Take notice that on October 10, 2003, Bangor Hydro-Electric Company (BHE) filed a Supplemental Informational Filing, in the above-docketed proceedings. BHE states that the submittal is designed to resolve all issues associated with BHE's Rate Formula, as well as, other issues raised by the participants in the course of negotiations.

Comment Date: October 27, 2003.

5. Duke Energy Oakland, LLC

[Docket No. ER03-116-001]

Take notice that on October 15, 2003, Duke Energy Oakland, LLC (DEO) pursuant to 16 U.S.C. 824d, and 18 CFR 35.13, tendered for filing certain revisions to Rate Schedules A and B of DEO's Reliability Must Run (RMR) Agreement with the California Independent System Operator (CAISO) for contract year 2003. DOE states that the filing is the result of an Offer of Settlement with respect to all issues in Docket No. ER03-116-000 relating to DEO's 2003 Annual Fixed Revenue Requirement (AFRR) under its RMR Agreement with CAISO which was filed concurrently in Docket No. ER03-116-000.

DEO requests an effective date of January 1, 2003 for these revisions. DEO states that copies of the filing have been served upon the CAISO, Pacific Gas & Electric Company, the Public Utilities Commission of the State of California, and the Electricity Oversight Board of the State of California.

Comment Date: November 5, 2003.

6. Xcel Energy Services Inc., Northern States Power Company

[Docket No. ER03-1278-001]

Take notice that on October 14, 2003, Xcel Energy Services Inc. (XES) on behalf of Northern Sates Power Company (NSP) tendered for filing with the Commission a response to Staff's request for additional information in support of the Generation Interconnection Agreement between NSP and Wilson-West Wind Farm, LLC, Moulton Heights Wind Power Project, LLC, North Ridge Wind Farm, LLC, Viking Wind Farm, LLC, Vandy South Project, LLC, Muncie Power Partners, LLC and Vindy Power Partners, LLC filed with the Commission on August 29, 2003.

Comment Date: November 4, 2003.

7. Commonwealth Edison Company

[Docket No. ER03-1320-001]

Take notice that on October 13, 2003, Commonwealth Edison Company (ComEd) submitted for filing a revised Interconnection Agreement between ComEd and Mendota Hills, LLC (Mendota Hills) designated as Service Agreement No. 728 under ComEd's open access transmission service tariff, ComEd FERC Electric Tariff, Second Revised Volume No. 5. ComEd requests an effective date of November 9, 2003. ComEd states that this filing was submitted to correct a typographical error in Section 3.4 of the Interconnection Agreement previously filed with the Commission on September 9, 2003.

ComEd states that copies of this filing were served on Mendota Hills and the Illinois Commerce Commission

Comment Date: November 4, 2003.

8. Monongahela Power Company

[Docket No. ER04-38-000]

Take notice that on October 14, 2003, Monongahela Power Company (Monongahela Power), tendered for filing pursuant to the Federal Energy Regulatory Commission's regulations, 18 CFR 35.15, Notices of Cancellation of Monongahela Power Company, Rate Schedule FERC Nos. 56, 57 and 58 consisting of Transition Service Agreements with Harrison Rural Electrification Association, the City of New Martinsville and the City of Philippi, respectively. Monongahela Power states that the Agreements terminated by their own terms effective November 30, 2003 and Monongahela Power therefore requests an effective date of November 30, 2003 for the cancellations. Accordingly, Monongahela Power requests waiver of the Commission's regulations.

Monongahela Power states that copies of the filing have been provided to each jurisdictional customer and the West Virginia State Corporation Commission.

Comment Date: November 4, 2003.

9. MAC Power Marketing, LLC

[Docket No. ER04-39-000]Take notice that on October 14, 2003, MAC Power Marketing, LLC (MAC Power) tendered for filing a Notice of Cancellation of it Market-Based Rate Authority in Docket No. ER98-575-000. MAC Power states that this cancellation should be effective as of September 18, 2002, the date of dissolution of the company.

Comment Date: November 4, 2003.

10. CenterPoint Energy Houston Electric, LLC

[Docket No. ER04-41-000]

Take notice that on October 14, 2003, CenterPoint Energy Houston Electric, LLC (CenterPoint Houston) tendered for filing a Form of Transmission Service Agreement under its Transmission Service Tariff for Transmission Service To, From and Over Certain Interconnections (TFO Tariff). CenterPoint Houston states that the Form of Transmission Service Agreement was inadvertently omitted from its filing of the TFO Tariff.

Comment Date: November 4, 2003.

11. Pure Energy, LLC

[Docket No. ER04-42-000]

Take notice that on October 14, 2003, Pure Energy, LLC, submitted for filing a Petition for Acceptance of Initial Rate Schedule, Waivers and Blanket Authority, and Rate Schedule FERC No. 1, under which Pure Energy, LLC will engage in wholesale electric power and energy transactions as a marketer.

Pure Energy, LLC states it is not currently subject to any state regulatory commission nor is it selling power to any person pursuant to the proposed rate schedule and accordingly, no copies have been served on other parties.

Comment Date: November 4, 2003.

12. Ameren Services Company

[Docket No. ER04-44-000]

Take notice that on October 15, 2003, Ameren Services Company (ASC) tendered for filing an executed Service Agreement for Firm Point-to-Point Services between ASC and Reliant Energy Services, Inc. ASC states that the purpose of the Agreement is to provide transmission services to Reliant Energy Services, Inc. pursuant to Ameren's Open Access Transmission Tariff.

Comment Date: November 5, 2003.

13. Worthington Generation L.L.C.

[Docket No. ER04-45-000]

Take notice that on October 15, 2003, Worthington Generation L.L.C. filed with the Commission, pursuant to Section 205 of the Federal Power Act, 16 U.S.C. 824d, and Part 35 of the Commission's regulations, a Notice of Cancellation of its FERC Electric Tariff, Original Volume No. 1 (Original Sheets Nos. 1-2) which became effective on June 1, 2000. Worthington Generation L.L.C. has requested that this cancellation be made effective as of October 15, 2003.

Comment Date: November 5, 2003.

14. PJM Interconnection, L.L.C.

[Docket No. ER04-46-000]

Take notice that on October 15, 2003, PJM Interconnection, L.L.C. (PJM), submitted for filing an Interconnection Service Agreement (ISA) among PJM, Motiva Enterprises, L.L.C. and Delmarva Power & Light Company d/b/a Conectiv Power Delivery and a Notice of Cancellation of an Interim ISA that has been superseded. PJM requests a waiver of the Commission's 60-day notice requirement to permit a September 22, 2003 effective date for the ISA. PJM states that copies of this filing were served upon the parties to the agreements and the state regulatory commissions within the PJM region.

Comment Date: November 5, 2003.

15. PB Financial Services, Inc.

[Docket No. ER04-47-000]

Take notice that on October 15, 2003, PB Financial Services, Inc. (PBFSI) petitioned the Commission for acceptance of PBFSI Rate Schedule FERC No. 1; the granting of certain blanket approvals, including the authority to sell electricity at market-based rates; and the waiver of certain Commission regulations.

PBFSI states that it intends to engage in wholesale electric power and energy purchases and sales as a marketer. PBFSI further states that it is not in the business of generating or transmitting electric power.

Comment Date: October 31, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00117 Filed 10-27-03; 8:45 am]

BILLING CODE 6717-01-P